FEDERAL COMMUNICATIONS COMMISSION

47 CFR Part 73

[DA 17-1099; MB Docket No. 16-320; RM-11774]

Radio Broadcasting Services; Gaylord, Michigan

AGENCY: Federal Communications Commission.

ACTION: Proposed rule; dismissal.

SUMMARY: The Audio Division dismisses the petition for rulemaking filed by N Content Marketing, LLC (Petitioner), proposing to amend the FM Table of Allotments, by allotting Channel 246C2 at Gaylord, Michigan. Petitioner did not file comments expressing a continuing interest in the proposed Gaylord allotment. It is the Commission's policy to refrain from making an allotment to a community absent an expression of interest. Roy E. Henderson and Great Northern Broadcasting, Inc., jointly (Joint Counterpropsal), as well as Smile FM, separately, submitted counterproposals. The Joint Counterproposal is dismissed and Smile FM is given the opportunity to file its counterproposal as a petition for rulemaking within 60 days for consideration in a new proceeding. We will not allot Channel 246C2 at Gaylord, Michigan.

DATES: This document was released on November 9, 2017.

ADDRESSES: Federal Communications Commission, 445 12th Street SW, Washington, DC 20554.

FOR FURTHER INFORMATION CONTACT: Adrienne Y. Denysyk, Media Bureau, (202) 418-2700.

SUPPLEMENTARY INFORMATION: This is a synopsis of the Commission's Report and Order, MB Docket No. 16-320, adopted November 9, 2017, and released November 9, 2017. The full text of this Commission decision is available for inspection and copying during normal business hours in the FCC's Reference Information Center at Portals II, CY-A257, 445 12th Street SW, Washington, DC 20554. The full text is also available online at http://apps.fcc.gov/ecfs/. This document does not contain information collection requirements subject to the Paperwork Reduction Act of 1995, Public Law 104-13. This document is not subject to the Congressional Review Act. (The Commission is not required to submit a copy of this Report and Order to Government Accountability Office, pursuant to the Congressional Review Act, see 5 U.S.C. 801(a)(1)(A) since the proposed petition for rule making is dismissed).

Federal Communications Commission.
Nazifa Sawez,
Assistant Chief, Audio Division, Media Bureau.

[FR Doc. 2017-27115 Filed 12-28-17; 8:45 am]

BILLING CODE 6712-01-P